DEPARTMENT OF TRANSPORTATION

Federal Aviation Administration

14 CFR Part 39

[Docket No. FAA-2008-0759; Directorate Identifier 2008-NE-02-AD; Amendment 39-15824; AD 2009-04-18]

RIN 2120-AA64

Airworthiness Directives; Pratt & Whitney (PW) JT9D-7 Series Turbofan Engines; Correction

AGENCY: Federal Aviation Administration, DOT.

ACTION: Final rule; correction.

SUMMARY: The FAA is correcting airworthiness directive (AD) 2009-04-18, which was previously published in the Federal Register. That AD applies to PW models JT9D-7, -7A, -7AH, -7H, -7F, and -7J turbofan engines. The two references to the engine manual in paragraph (h) and in Table 1, are incomplete. This document corrects those references. In all other respects, the original document remains the same.

DATES: Effective Date: Effective June 25, 2009.

FOR FURTHER INFORMATION CONTACT: Kevin Dickert, Aerospace Engineer, Engine Certification Office, FAA, Engine and Propeller Directorate, 12 New England Executive Park, Burlington, MA 01803; e-mail: kevin.dickert@faa.gov; telephone (781) 238-7117; fax (781) 238-7199, for more information about this AD.

SUPPLEMENTARY INFORMATION: On March 31, 2009 (74 FR 14458), we published a final rule AD, FR Doc, E9-6749, in the Federal Register. That AD applies to PW models JT9D-7, -7A, -7AH, -7H, -7F, and -7J turbofan engines. We need to make the following corrections:

§ 39.13 [Corrected]

On page 14459, in Table 1, in the first column, in the second line, “770408” is corrected to read “770408, Section 72-51-00, Assembly-02”.

On page 14459, in the third column, in paragraph (h), in the third line, “1.B.(32) of the JT9D-7 Engine Manual” is corrected to read “1.B.(32) of Section 72-51-00, Assembly-02 of the JT9D-7 Engine Manual”.

Issued in Burlington, Massachusetts, on June 17, 2009.
Carlos Pestana,
Acting Manager, Engine and Propeller Directorate, Aircraft Certification Service.

[FR Doc. E9-14810 Filed 6-24-09; 8:45 am]

BILLING CODE 4910-13-P